ENVIRONMENTAL PROTECTION AGENCY

[EPA-HQ-OPP-2017-0135; FRL-9960-10]

Dinotefuran; Receipt of Applications for Emergency Exemptions, Solicitation of Public Comment

AGENCY: Environmental Protection Agency (EPA).

ACTION: Notice.

SUMMARY: EPA has received specific exemption requests from the West Virginia, Virginia, and Pennsylvania Departments of Agriculture to use the insecticide dinotefuran (CAS No. 165252-70-0) to treat pome and stone fruit orchards to control the brown marmorated stinkbug. The applicants propose a use which is supported by the Interregional Research Project Number 4 (IR-4) program, has been requested in 5 or more previous years, and a petition for tolerance has not been submitted to the Agency. Therefore, EPA is soliciting public comment before making the decision whether or not to grant the exemptions.

DATES: Comments must be received on or before April 25, 2017.

ADDRESSES: Submit your comments, identified by docket identification (ID) number EPA-HQ-OPP-2017-0135, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at https://www.epa.gov/dockets/where-send-comments-epa-dockets.

Additional instructions on commenting or visiting the docket, along with more information about dockets generally, is available at http://www.epa.gov/dockets.

FOR FURTHER INFORMATION CONTACT: Michael L. Goodis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects from exposure to the pesticide(s) discussed in this document, compared to the general population.

II. What action is the agency taking?

Under section 18 of the Federal Insecticide, Fungicide, and Rodenticide Act (FIFRA) (7 U.S.C. 136p), at the discretion of the EPA Administrator, a Federal or State agency may be exempted from any provision of FIFRA if the EPA Administrator determines that emergency conditions exist which require the exemption. The West Virginia, Virginia, and Pennsylvania Departments of Agriculture have requested the EPA Administrator to issue specific exemptions for the use of dinotefuran on pome and stone fruit to control the brown marmorated stinkbug. Information in accordance with 40 CFR part 166 was submitted as part of the requests. The applicants assert that the rapid spread of large outbreaks of the brown marmorated stinkbug (BMSB) resulted in an urgent and non-routine pest control situation that is expected to cause significant economic losses without the requested use. The applicants propose no more than two applications at a rate of 0.203 to 0.304 lb. (maximum 0.608 lb.) of dinotefuran per acre, on up to 60,000 acres of pome and stone fruit grown in the requesting states, from April 1 to October 15, 2017. A total of 36,480 lbs. of dinotefuran could be used (maximum acreage at highest rate).

This notice does not constitute a decision by EPA on the applications themselves. The regulations governing FIFRA section 18 at 40 CFR 166.32(a)(7), require publication of a notice of receipt of an application for a specific exemption proposing a use which is supported by the IR-4 program, has been requested in 5 or more previous years, and a petition for tolerance has not yet been submitted to the Agency. The notice provides an opportunity for public comment on the applications. The Agency will review and consider all comments received during the comment period in determining whether to issue the specific exemptions requested by the West Virginia, Virginia, and Pennsylvania Departments of Agriculture.

Authority: 7 U.S.C. 136 et seq.

Dated: March 23, 2017.
Daniel J. Rosenblatt,
Acting Director, Registration Division, Office of Pesticide Programs.

[FR Doc. 2017-07135 Filed 4-7-17; 8:45 am]

BILLING CODE 6560-50-P